FEDERAL HOUSING FINANCE AGENCY

[No. 2010-N-09]

Proposed Collection; Comment Request

AGENCY: Federal Housing Finance Agency.

ACTION: 30-day Notice of Submission of Information Collection for Approval from the Office of Management and Budget.

SUMMARY: In accordance with the requirements of the Paperwork Reduction Act of 1995, the Federal Housing Finance Agency (FHFA) is seeking public comments concerning the information collection known as “Members of the Banks,” which has been assigned control number 2590-0003 by the Office of Management and Budget (OMB). FHFA will submit the information collection to OMB for review and approval of a three-year extension of the control number, which is due to expire on July 31, 2010.

DATES: Interested persons may submit comments on or before August 13, 2010.

Comments: Submit comments to the Office of Information and Regulatory Affairs of the Office of Management and Budget, Attention: Desk Officer for the Federal Housing Finance Agency, Washington, DC 20503, Fax: 202-395-6974, E-mail: OIRA_Submission@omb.eop.gov. Please also submit comments to FHFA using any one of the following methods:

• E-mail: RegComments@fhfa.gov. Please include Proposed Collection; Comment Request: “Members of the Banks, (No. 2010-N-09)” in the subject line of the message.

• Federal eRulemaking Portal: http://www.regulations.gov. Follow the instructions for submitting comments. If you submit your comment to the Federal eRulemaking Portal, please also send it by e-mail to FHFA at RegComments@fhfa.gov to ensure timely receipt by the agency. Please include Proposed Collection; Comment Request: “Members of the Banks, (No. 2010-N-09)” in the subject line of the message.

• U.S. Mail/Hand Delivery: Federal Housing Finance Agency, Fourth Floor, 1700 G Street, NW., Washington, DC 20552, ATTENTION: Public Comments/Proposed Collection; Comment Request: “Members of the Banks, (No. 2010-N-09).”

We will post all public comments we receive without change, including any personal information you provide, such as your name and address, on the FHFA Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

FOR FURTHER INFORMATION CONTACT: Jonathan F. Curtis, Financial Analyst, Division of Federal Home Loan Bank Regulation, by telephone at 202-408-2866 (not a toll-free number), by e-mail at jonathan.curtisj@fhfa.gov, or by regular mail at the Federal Housing Finance Agency, 1625 Eye Street, NW., Washington, DC 20006. The telephone number for the Telecommunications Device for the Deaf is 800-877-8339.

SUPPLEMENTARY INFORMATION:

A. Need for and Use of the Information Collection

Section 4 of the Federal Home Loan Bank Act (Bank Act) establishes the eligibility requirements an institution must meet in order to become a member of a Federal Home Loan Bank (Bank).¹ The membership rule, which implements section 4 of the Bank Act, provides uniform requirements an applicant for Bank membership must meet and review criteria a Bank must apply to determine if an applicant satisfies the statutory and regulatory membership eligibility requirements.²

¹ 12 U.S.C. 1424.

² 12 CFR part 1263 (former part 925). See 75 FR 678, 690 (Jan. 5, 2010).

More specifically, the membership rule implements the statutory eligibility requirements and provides guidance on how an applicant may satisfy such requirements. The Banks, and where appropriate, FHFA, use the information collection to determine: (i) If an institution satisfies the statutory and regulatory membership requirements; (ii) a member's initial capital stock purchase in a Bank; (iii) member withdrawals; and (iv) where a member transfers to a different Bank district. The rule authorizes a Bank to approve or deny each membership application subject to the statutory and regulatory requirements, and permits an applicant to appeal to FHFA a Bank's decision to deny certification as a Bank member. The rule also imposes a continuing obligation on a current Bank member to provide information necessary to determine if it remains in compliance with applicable statutory and regulatory eligibility requirements.

The provisions governing this information collection are found in §§ 1263.2 through 1263.31 of the membership rule, 12 CFR 1263.2—1263.31. The information collection is necessary to enable a Bank to determine whether prospective and current Bank members satisfy the statutory and regulatory requirements to be certified initially and maintain their status as members eligible to obtain Bank advances. FHFA requires and uses the information collection to determine whether to uphold or overrule a Bank's decision to deny member certification to an applicant.

The OMB control number for the information collection is 2590-0003, which is due to expire on July 31, 2010. The likely respondents are institutions that want to be certified as or are members of a Bank seeking continued certification.

B. Burden Estimate

FHFA has analyzed the cost and hour burden for the four facets of the information collection: (1) Membership Application Process, (2) Minimum initial capital stock calculation for applicants, (3) Membership withdrawals, and (4) Transfer of membership to another Bank district. The estimate for the total annual hour burden for all respondents is 5,564 hours. The estimate for the total annual cost burden is $535,549. These estimates are based on the following calculations:

Membership Application and Appeal Process

FHFA estimates the total annual average number of member applicants at 283, with 1 response per applicant. Of those 283 applicants, FHFA estimates that 1 applicant will appeal a Bank's membership determination to FHFA. The estimate for the average hours per application is 19.25 hours. The estimate for the average hours per appeal is 10 hours. The estimate for the total annual hour burden to applicants for the membership application and appeal process is 5,458 hours (283 applicants x 1 response per applicant x 19.25 hours per response + 1 appellant x 1 appeal x 10 hours). The estimate for the total annual cost burden to applicants for the membership application and appeal process is $521,136.

Initial Capital Stock Calculation for Applicants

FHFA estimates the total annual average number of applicant initial capital stock subscription calculations at 283, with 1 response per applicant. The estimate for the average hours per application is 0.25 hours. The estimate for the annual hour burden for applicants' initial capital stock subscription calculations is 71 hours (283 applicants x 1 response per applicant x 0.25 hours per response). The estimate for the total annual cost burden to applicants of initial capital stock calculation is $9,727.

Membership Withdrawals

FHFA estimates the total annual average number of membership withdrawals at 8, with 1 response per withdrawing member. The estimate for the average hours per member withdrawal is 3.5 hours. The estimate for the annual hour burden for membership withdrawals is 28 hours (8 membership withdrawals x 1 response per member x 3.5 hours per response). The estimate for the total annual cost burden to members for withdrawals from membership is $3,836.

Transfers of Membership to Another Bank District

FHFA estimates the total annual average number of transfers of membership at 2, with 1 response per transferring member. The estimate for the average hours per member transfer is 3.5 hours. The estimate for the annual hour burden for membership transfers is 7 hours (2 membership transfers x 1 response per member x 3.5 hours per response). The estimate for the total annual cost burden to member respondents of the transfer of membership process is $850.

C. Comment Request

In accordance with the requirements of 5 CFR 1320.8(d), FHFA published a request for public comments regarding this information collection in the Federal Register on March 29, 2010. See 75 FR 15431 (Mar. 29, 2010). The 60-day comment period closed on May 28, 2010. FHFA received one public comment from a consumer that referred to another proposed collection of information that was not related to this collection.

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: July 6, 2010.
Edward J. DeMarco,
Acting Director, Federal Housing Finance Agency.

[FR Doc. 2010-17122 Filed 7-13-10; 8:45 am]

BILLING CODE 8070-01-P